COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds services to the Procurement List that will be furnished by nonprofit agencies employing persons who are blind or have other severe disabilities, and deletes products and services from the Procurement List previously furnished by such agencies.

DATES: Date added to and deleted from the Procurement List: May 8, 2019.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 2/1/2019 and 2/22/2019, the Committee for Purchase From People Who Are Blind or Severely Disabled published notice of proposed additions to the Procurement List. After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 8501-8506) in connection with the services proposed for addition to the Procurement List.

End of Certification

Accordingly, the following services are added to the Procurement List:

Services

Service Type: Facilities Management and Related ServicesMandatory for: US Army, Eastern

ARNG Aviation Training Site, Fort Indiantown Gap, Annville, PA

Mandatory Source of Supply: Opportunity Center, Incorporated, Wilmington, DE

Contracting Activity: DEPT OF THE ARMY, W7NX USPFO ACTIVITY PA ARNG

Service Type: Janitorial Service

Mandatory for: U.S. Navy, NEX Food Court, Norfolk Naval Air Station, Norfolk, VA

Mandatory Source of Supply: Sara's Mentoring Center, Inc., Virginia Beach, VA

Contracting Activity: DEPT OF THE NAVY, Navy Exchange Service Command

Deletions

On 2/1/2019, 2/15/2019, 2/22/2019 and 3/1/2019, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSNs—Product Names:

8010-00-616-9143—Enamel, Lacquer

8010-00-910-8154—Enamel, Lacquer

8010-01-167-1139—Enamel, Lacquer

Mandatory Source of Supply: The Lighthouse for the Blind, St. Louis, MO

Contracting Activity: FAS HEARTLAND REGIONAL ADMINISTRATO, KANSAS CITY, MO

NSN—Product Name:

7930-01-512-7171—Disinfectant, Deodorizer, Neutral, Biobased, Floral/Citrus Fragrance,1 Gal

Mandatory Source of Supply: The Lighthouse for the Blind, St. Louis, MO

Contracting Activity: GSA/FSS GREATER SOUTHWEST ACQUISITI, FORT WORTH, TX

NSNs—Product Names:

7520-01-542-5941—Pen, Ball Point, Econogard, Retractable, Cushion Grip, White Barrel, Black Ink, Medium Point

7520-01-542-5953—Pen, Ball Point, Econogard, Retractable, Cushion Grip, White Barrel, Black Ink, Fine Point

Mandatory Source of Supply: Industries of the Blind, Inc., Greensboro, NC

NSN—Product Name:

7510-01-483-9402—Log Book, Voice Mail, White, 50 pages

Mandatory Source of Supply: The Arkansas Lighthouse for the Blind, Little Rock, AR

Contracting Activity: GSA/FAS ADMIN SVCS ACQUISITION BR(2, NEW YORK, NY

NSN—Product Name:

1005-00-659-1031—Cover, Spare Barrel

Mandatory Source of Supply: The Douglas Center, Skokie, IL

Contracting Activity: DLA LAND AND MARITIME, COLUMBUS, OH

NSNs—Product Names:

5340-00-410-2972—Clamp, Loop, CRES, Teflon-Asbestos, ½″ Loop × ½″ Wide

5340-00-410-2974—Clamp, Loop, CRES, Teflon-Asbestos, ⅝″ Loop × ½″ Wide

5340-00-420-1749—Clamp, Loop, CRES, Teflon-Asbestos, 1-31/500″ Loop × ½″ Wide

Mandatory Source of Supply: Skookum Educational Programs, Bremerton, WA

6510-00-935-5823—Bandage, Elastic, 6″ × 4.5 Yards

Mandatory Source of Supply: None

8340-00-223-7849—Pole Section, Tent

Mandatory Source of Supply: Development Workshop, Inc., Idaho Falls, ID

Contracting Activity: DLA TROOP SUPPORT, PHILADELPHIA, PA

Services

Service Type: Switchboard Operation

Mandatory for: Veterans Affairs Medical Center, Nashville, TN

Service Type: Temporary Medical Record Filing

Mandatory for: Alvin C. York VA Medical Center, Murfreesboro, TN

Mandatory for: VA Medical Center, Nashville, TN

Mandatory Source of Supply: Ed Lindsey Industries f/t Blind, Inc., Nashville, TN

Service Type: Custodial Services

Mandatory for: Edward Hines Jr. VA Hospital: Hines Campus, Hines, IL

Mandatory Source of Supply: Jewish Vocational Service and Employment Center, Chicago, IL

Contracting Activity: VETERANS AFFAIRS, DEPARTMENT OF, NAC

Service Type: JWOD Staffing Services

Mandatory Source of Supply: Ed Lindsey Industries f/t Blind, Inc., Nashville, TN, Arizona Industries for the Blind, Phoenix, AZ

Mandatory for Contracting Activity: General Services Administration, Nationwide

Service Type: Janitorial/Custodial

Mandatory for: U.S. Federal Building: 815 Airport Way, U.S. Department of Justice, INS, Seattle, WA

Mandatory Source of Supply: Northwest Center, Seattle, WA

Contracting Activity: FEDERAL PRISON SYSTEM, TERMINAL ISLAND, FCI

Service Type: Administrative Services

Mandatory for: GSA, Pacific Rim Region PBS: 450 Golden Gate Avenue, San Francisco, CA

Mandatory Source of Supply: Toolworks, Inc., San Francisco, CA

Mandatory for: Federal Supply Service, Kansas City, MO

Mandatory Source of Supply: JobOne, Independence, MO

Service Type: Operation of GSA Access Store

Mandatory for: U.S. Federal Building and Courthouse: 450 Golden Gate Avenue, Phillip Burton, San Francisco, CA

Mandatory Source of Supply: Pacific Coast Community Services, Richmond, CA

Service Type: Furniture Rehabilitation

Mandatory for: GSA, National Furniture Center, Arlington, VA

Mandatory Source of Supply: J.M. Murray Center, Inc., Cortland, NY

Service Type: Janitorial/Custodial

Mandatory for: Denver Federal Center: Building 85, Denver, CO

Mandatory Source of Supply: North Metro Community Services for Developmentally Disabled, Westminster, CO

Mandatory for: Food and Drug Administration Building, Minneapolis, MN

Mandatory Source of Supply: Tasks Unlimited, Inc., Minneapolis, MN

Mandatory for: U.S. Federal Building and Post Office, Merced, CA

Mandatory Source of Supply: None

Service Type: Recycling Service

Mandatory for: Federal Center/Battle Creek: Buildings 1, 1A, 1B, 2, 2A, and 2C, Battle Creek, MI

Mandatory Source of Supply: Navigations, Incorporated, Battle Creek, MI

Contracting Activity: GENERAL SERVICES ADMINISTRATION

Service Type: Administrative Services

Mandatory for: Delaware Valley Office: GSA Region3, Trenton NJ

Mandatory Source of Supply: Elwyn, Aston, PA

Contracting Activity: PUBLIC BUILDINGS SERVICE, GSA/PBS/R03 NORTH SERVICE CENTER

Service Type: Shelf Stocking, Custodial & Warehousing

Mandatory for: Fort Gillem, GA

Mandatory Source of Supply: Brevard Achievement Center, Inc., Rockledge, FL

Mandatory for: Dahlgren Naval Surface Warfare Center, Dahlgren, VA

Mandatory Source of Supply: Rappahannock Goodwill Industries, Inc., Fredericksburg, VA

Service Type: Shelf Stocking & Custodial

Mandatory for: Great Lakes Naval Training Center, Galley 535, 928 and 1128, Great Lakes, IL

Mandatory Source of Supply: None

Mandatory for: Fort Monroe, VA

Mandatory Source of Supply: VersAbility Resources, Inc., Hampton, VA

Mandatory for: Meridian Naval Air Station, Meridian, MS

Mandatory Source of Supply: Alabama Goodwill Industries, Inc., Birmingham, AL

Mandatory for: Travis Air Force Base, CA

Mandatory Source of Supply: PRIDE Industries, Roseville, CA

Mandatory for: Homestead Air Reserve Base, FL

Mandatory Source of Supply: Goodwill Industries of South Florida, Inc., Miami, FL

Contracting Activity: DEFENSE COMMISSARY AGENCY

Service Type: Computer Facilities Management Services

Mandatory for: Federal Center, Defense Reutilization & Marketing Service (DRMS)—POB: 74 North Washington—ADP Op, Battle Creek, MI

Mandatory Source of Supply: Peckham Vocational Industries, Inc., Lansing, MI

Contracting Activity: DEFENSE LOGISTICS AGENCY, DLA DISPOSITION SERVICES

Service Type: Sewing

Mandatory for: Redstone Arsenal, Huntsville, AL

Mandatory Source of Supply: Huntsville Rehabilitation Foundation, Huntsville, AL

Service Type: Administrative Services

Mandatory for: Fort Sam Houston: Directorate of Public Works, Fort Sam Houston, TX

Mandatory Source of Supply: Training, Rehabilitation, & Development Institute, Inc., San Antonio, TX

Service Type: Janitorial/Custodial

Mandatory for: U.S. Army Reserve Center: #1—9 Chisolm Street #2—1050 Remound Road, Charleston, SC

Mandatory Source of Supply: Dorchester County Board of Disabilities and Special Needs, Summerville, SC

Contracting Activity: DEPT OF THE ARMY, W40M RHCO-ATLANTIC USAHCA

Service Type: Janitorial/Custodial

Mandatory for: Naval Reserve Readiness CenterSeattle, WA

Mandatory Source of Supply: None

Contracting Activity: DEPT OF THE NAVY, U S FLEET FORCES COMMAND

Service Type: Food Service

Mandatory for: Illinois National Guard, Lincoln's Challenge Academy: 205 W Dodge, Building 303, Rantoul, IL

Mandatory Source of Supply: Challenge Unlimited, Inc., Alton, IL

Contracting Activity: DEPT OF DEFENSE, DOD/OFF OF SECRETARY OF DEF (EXC MIL DEPTS)

Service Type: Janitorial/Custodial

Mandatory for: U.S. Army Reserve Center—Windsor Locks, West Hartford, CT

Mandatory for: U.S. Army Reserve Center—BG J.W. Middleton, West Hartford, CT

Mandatory for: U.S. Army Reserve Center, West Hartford, CT

Mandatory Source of Supply: Allied Community Services, Inc., Enfield, CT

Contracting Activity: DEPT OF THE ARMY, W6QM MICC-FT DIX (RC-E)

Patricia Briscoe,
Deputy Director, Business Operations, Pricing and Information Management.

[FR Doc. 2019-06805 Filed 4-5-19; 8:45 am]

BILLING CODE 6353-01-P